DEPARTMENT OF THE TREASURY

Submission for OMB Review; Comment Request

March 11, 2015.

The Department of the Treasury will submit the following information collection request to the Office of Management and Budget (OMB) for review and clearance in accordance with the Paperwork Reduction Act of 1995, Public Law 104-13, on or after the date of publication of this notice.

DATES: Comments should be received on or before April 16, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Departmental Offices (DO)

OMB Number: 1505-XXXX.

Type of Review: New Collection.

Title: My Classroom Economy Study

Abstract: The U.S. Department of the Treasury requests OMB approval of an information collection with four components that will be used to gather information from youth, their parents, and teachers who are participating in a classroom-based financial capability intervention called “My Classroom Economy” that is being studied and evaluated by the U. S. Treasury. This research will inform the Federal Financial Literacy and Education Commission (FLEC) and Treasury officials on strategies for providing financial education to students during the school day.

Affected Public: Individuals.

Estimated Total Burden Hours: 3,275.

Robert Dahl,
Treasury PRA Clearance Officer.

[FR Doc. 2015-06004 Filed 3-16-15; 8:45 am]

BILLING CODE 4810-25-P